ENVIRONMENTAL PROTECTION AGENCY

[EPA-HQ-OPP-2007-0038; FRL-8125-2]

Syracuse Environmental Research Associates, Inc., Syracuse Research Corporation; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Syracuse Environmental Research Associates, Inc. and its subcontractor, Syracuse Research Corporation in accordance with 40 CFR 2.307(h)(3) and 2.308(i)(2). Syracuse Environmental Research Associates, Inc. and its subcontractor, Syracuse Research Corporation, have been awarded a contract to perform work for OPP, and access to this information will enable Syracuse Environmental Research Associates, Inc. and its subcontractor, Syracuse Research Corporation, to fulfill the obligations of the contract.

DATES: Syracuse Environmental Research Associates, Inc. and its subcontractor, Syracuse Research Corporation, will be given access to this information on or before April 30, 2007.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0038 Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Contractor Requirements

Under Contract No. EP-W-07-025, Syracuse Environmental Research Associates, Inc. and its subcontractor, Syracuse Research Corporation, will access FIFRA/CBI data in the preparation of assessments and characterizations of pesticides. The assessments and characterizations will assess drinking water and its risk to humans and nonhumans. Assessment production support would include developing full ecological risk assessments and or drinking water exposure assessments, preparing sections of risk assessments, investigating a specific issue or problem related to a risk assessment, or conducting literature searches for data on individual chemicals or groups of chemicals to augment existing data sets. An ecological risk assessment in OPP evaluates the likelihood that adverse ecological effects may occur as a result of exposure to a pesticide. It includes three primary phases: Problem formulation, analysis, and risk characterization. A drinking water assessment generally includes a discussion of the pesticide usage including application methods and rates, and geographical areas of use, the occurrence exposure data used to assess exposure, a description of the models and scenarios used to estimate concentration in both surface water and ground water, and a discussion of the uncertainty and data gaps.

The OPP has determined that access by Syracuse Environmental Research Associates, Inc. and its subcontractor, Syracuse Research Corporation, to information on all pesticide chemicals may be necessary for the performance of this contract.

Some of this information may be entitled to confidential treatment. The information has been submitted to EPA under sections 3, 4, 6, and 7 of FIFRA and under sections 408 and 409 of FFDCA.

In accordance with the requirements of 40 CFR 2.307(h)(2), the contract with Syracuse Environmental Research Associates, Inc. and its subcontractor, Syracuse Research Corporation prohibits use of the information for any purpose not specified in the contract; prohibits disclosure of the information to a third party without prior written approval from the Agency; and requires that each official and employee of the contractor sign an agreement to protect the information from unauthorized release and to handle it in accordance with the FIFRA Information Security Manual. In addition, Syracuse Environmental Research Associates, Inc. and its subcontractor, Syracuse Research Corporation, are required to submit for EPA approval a security plan under which any CBI will be secured and protected against unauthorized release or compromise. No information will be provided to Syracuse Environmental Research Associates, Inc. and its subcontractor, Syracuse Research Corporation Staff, until the requirements in this document have been fully satisfied. Records of information provided to Syracuse Environmental Research Associates, Inc. and its subcontractor, Syracuse Research Corporation Staff, will be maintained by EPA Project Officers for this contract. All information supplied to Syracuse Environmental Research Associates, Inc. and its subcontractor, Syracuse Research Corporation Staff, by EPA for use in connection with this contract will be returned to EPA when Syracuse Environmental Research Associates, Inc. and its subcontractor, Syracuse Research Corporation Staff, have completed their work.

List of Subjects

Environmental protection, Business and industry, Government contracts, Government property, Security measures.

Dated: April 16, 2007.
Robert Forrest,
Acting Director, Office of Pesticide Programs.

[FR Doc. E7-7879 Filed 4-24-07; 8:45 am]

BILLING CODE 6560-50-S